ENVIRONMENTAL PROTECTION AGENCY

40 CFR Part 300

[EPA-R03-SFUND-2010-0436; FRL-9177-8]

National Oil and Hazardous Substances Pollution Contingency Plan; National Priorities List: Partial Deletion of the Letterkenny Army Depot Southeastern (SE) Area and Letterkenny Army Depot Property Disposal Office (PDO) Area Superfund Sites

Correction

In rule document 2010-17776 beginning on page 43082 in the issue of Friday, July 23, 2010 make the following correction:

Appendix B to Part 300 [Corrected]

On page 43088, in Appendix B to Part 300, in Table 2, in the entry in the fifth row, in the second column of the table, “Letterkenny Army Depot (SE Area)” should read “Letterkenny Army Depot (PDO Area)”.

[FR Doc. C1-2010-17776 Filed 9-14-10; 8:45 am]

BILLING CODE 1505-01-D